DEPARTMENT OF DEFENSE

Department of the Air Force

US Air Force Partially Exclusive Patent License

AGENCY: New York, Rome, Air Force Research Laboratory Information Directorate, Department of the Air Force.

ACTION: Notice of Intent to Issue a Partially Exclusive Patent License.

SUMMARY: Pursuant to the provisions of part 404 of Title 37, Code of Federal Regulations, which implements Public Law 96-517, as amended, the Department of the Air Force announces its intention to grant Kognitive Systems, LLC, a corporation of New York, having a place of business at 14 White Pine Road, New Hartford, New York 13413, a partially exclusive license being limited to the field of use in Process Control in the Pulp and Paper Industry, in any right, title and interest the United States Air Force has in: In U.S. Patent No. 8,732,100 entitled “Method and Apparatus for Event Detection Permitting Per Event Adjustment of False Alarm Rate”, issued on May 20th, 2014.

FOR FURTHER INFORMATION CONTACT: An exclusive license for this patent will be granted unless a written objection is received within fifteen (15) days from the date of publication of this Notice. Written objections should be sent to: Air Force Research Laboratory, Office of the Staff Judge Advocate, AFRL/RIJ, 26 Electronic Parkway, Rome, New York 13441-4514. Telephone: (315) 330-2087; Facsimile (315) 330-7583.

Henry Williams,
Acting Air Force Federal Register Liaison Officer.

[FR Doc. 2015-04027 Filed 2-25-15; 8:45 am]

BILLING CODE 5001-10-P